OFFICE OF THE UNITED STATES TRADE REPRESENTATIVE

2005-2006 Allocations of the Tariff-Rate Quotas for Raw Cane Sugar, Refined Sugar, and Sugar-Containing Products

AGENCY: Office of the United States Trade Representative.

ACTION: Notice.

SUMMARY: The Office of the United States Trade Representative (USTR) is providing notice of the country-by-country allocations of the in-quota quantity of the tariff-rate quotas for imported raw cane sugar, refined sugar, and sugar-containing products for the period that begins October 1, 2005 and ends September 30, 2006.

EFFECTIVE DATE: September 7, 2005.

ADDRESSES: Inquiries may be mailed or delivered to Elizabeth Leier, Director of Agricultural Trade Policy, Office of Agricultural Affairs, Office of the United States Trade Representative, 600 17th Street, NW., Washington, DC 20508.

FOR FURTHER INFORMATION CONTACT: Elizabeth Leier, Office of Agricultural Affairs, (202) 395-6127.

SUPPLEMENTARY INFORMATION: Pursuant to Additional U.S. Note 5 to chapter 17 of the Harmonized Tariff Schedule of the United States (HTS), the United States maintains tariff-rate quotas for imports of raw cane and refined sugar. Pursuant to additional U.S. Note 8 to chapter 17 of the HTS, the United States also maintains a tariff-rate quota for certain sugar-containing products.

Section 404(d)(3) of the Uruguay Round Agreements Act (19 U.S.C. 3601(d)(3)) authorizes the President to allocate the in-quota quantity of a tariff-rate quota for any agricultural product among supplying countries or customs areas. The President delegated this authority to the United States Trade Representative under Presidential Proclamation 6763 (60 FR 1007).

The in-quota quantity of the tariff-rate quota for raw cane sugar for the period October 1, 2005-September 30, 2006, has been established by the Secretary of Agriculture at 1,226,057 metric tons, raw value (1,351,496 short tons). The quantity of 1,226,057 metric tons, raw value is being allocated to the following countries:

Country | FY 2006 allocation
Argentina | 50,000
Australia | 96,511
Barbados | 8,139
Belize | 12,791
Bolivia | 9,302
Brazil | 168,603
Colombia | 27,907
Congo | 7,258
Cote d'Ivoire | 7,258
Costa Rica | 17,442
Dominican Republic | 204,649
Ecuador | 12,791
El Salvador | 30,232
Fiji | 10,465
Gabon | 7,258
Guatemala | 55,813
Guyana | 13,953
Haiti | 7,258
Honduras | 11,628
India | 9,302
Jamaica | 12,791
Madagascar | 7,258
Malawi | 11,628
Mauritius | 13,953
Mexico | 7,258
Mozambique | 15,116
Nicaragua | 24,418
Panama | 33,721
Papua New Guinea | 7,258
Paraguay | 7,258
Peru | 47,674
Philippines | 156,975
South Africa | 26,744
St. Kitts & Nevis | 7,258
Swaziland | 18,604
Taiwan | 13,953
Thailand | 16,279
Trinidad-Tobago | 8,139
Uruguay | 7,258
Zimbabwe | 13,953

These allocations are based on the countries' historical shipments to the United States. The allocations of the raw cane sugar tariff-rate quota to countries that are net importers of sugar are conditioned on receipt of the appropriate verifications of origin.

This allocation includes the following minimum quota-holding countries: Congo, Cote d'Ivoire, Gabon, Haiti, Madagascar, Papua New Guinea, Paraguay, St. Kitts & Nevis, and Uruguay.

The in-quota quantity of the tariff-rate quota for refined sugar for the period October 1, 2005-September 30, 2006, has been established by the Secretary of Agriculture at 49,000 metric tons, raw value (54,013 short tons), of which the Secretary has reserved 28,656 metric tons (31,588 short tons) for specialty sugars. Of the quantity not reserved for specialty sugars, a total of 10,300 metric tons (11,354 short tons) is being allocated to Canada and 2,954 metric tons (3,256 short tons) is being allocated to Mexico. The remaining 7,090 metric tons (7,815 short tons) of the in-quota quantity not reserved for specialty sugars may be supplied by any country on a first-come, first-served basis, subject to any other provision of law. The 28,656 metric tons (31,588 short tons) reserved for specialty sugars is also not being allocated among supplying countries and is available on a first-come, first-served basis, subject to any other provision of law.

In 1995, the United States Trade Representative determined, pursuant to 15 CFR 2011.110(a), to suspend the certificate of quota eligibility (CQE) requirements for sugar entering under the tariff-rate quota for refined sugar. Based on the factors set out in 15 CFR 2011.110(b), I have determined to reinstate the CQE requirements for sugar entering under the tariff-rate quota for refined sugar that is the product of a country that has been allocated a share of the tariff-rate quota for refined sugar. Accordingly, pursuant to 15 CFR 2011.110(b), effective October 1, 2005, the provisions of subpart A of part 2011 of title 15 of the Code of Federal Regulations are reinstated with respect to sugar entering under the tariff-rate quota for refined sugar that is the product of a country that has been allocated a share of the tariff-rate quota for refined sugar.

With respect to the tariff-rate quota of 64,709 metric tons (71,329 short tons) for certain sugar-containing products maintained pursuant to additional U.S. Note 8 to chapter 17 of the HTS, 59,250 metric tons (65,312 short tons) of sugar-containing products is being allocated to Canada. The remaining in-quota quantity for this tariff-rate quota is available to other countries on a first-come, first-served basis.

Conversion factor: 1 metric ton = 1.10231125 short tons.

Rob Portman,
United States Trade Representative.

[FR Doc. 05-17657 Filed 9-6-05; 8:45 am]

BILLING CODE 3190-W5-P